DEPARTMENT OF THE INTERIOR

Fish and Wildlife Service

[FWS-R4-ES-2008-N0278; 40120-1112-0000-F2]

Receipt of Application for Incidental Take Permit for One Condominium Complex in Escambia County, FL

AGENCY: Fish and Wildlife Service, Interior.

ACTION: Notice.

SUMMARY: Seabreeze Properties, LLC (Applicant) requests an incidental take permit (ITP) under section 10(a)(1)(B) of the Endangered Species Act of 1973 (Act), as amended. The Applicant anticipates taking Perdido Key beach mice (Peromyscus polionotus trissyllepsis) incidental to developing, constructing, and human occupancy of a condominium complex in Escambia County, Florida (Project). The Applicant's Habitat Conservation Plan (HCP) describes the mitigation and minimization measures proposed to address the effects of the Project to the Perdido Key beach mouse.

DATES: Written comments on the application, environmental assessment (EA), and HCP should be sent to the Service's Regional Office (see ADDRESSES) and should be received on or before December 16, 2008.

ADDRESSES: Persons wishing to review the application, EA, and HCP may obtain a copy by writing the Service's Southeast Regional Office, Atlanta, Georgia, at the address below. Please reference permit number TE189611, Seabreeze, in such requests. Documents will also be available for public inspection by appointment during normal business hours at the Regional Office, 1875 Century Boulevard, Suite 200, Atlanta, GA 30345 (Attn: Endangered Species Permits); or Field Supervisor, U.S. Fish and Wildlife Service, 1601 Balboa Avenue, Panama City, FL 32405.

FOR FURTHER INFORMATION CONTACT: Mr. David Dell, Regional HCP Coordinator, (see ADDRESSES), telephone: 404/679-7313, or Ms. Lorna Patrick, Field Office Project Manager, at the Panama City Field Office (see ADDRESSES), telephone: 850/769-0552, ext. 229.

SUPPLEMENTARY INFORMATION: We announce the application for an ITP and the availability of the HCP and EA. The EA is an assessment of the likely environmental impacts associated with this Project. Copies of these documents may be obtained by making a request, in writing, to the Regional Office (see ADDRESSES). This notice is provided pursuant to Section 10 of the Act (16 U.S.C. 1531 et seq.) and National Environmental Policy Act regulations at 40 CFR 1506.6.

We specifically request information, views, and opinions from the public via this notice on the Federal action, including the identification of any other aspects of the human environment not already identified in the EA. Further, we specifically solicit information regarding the adequacy of the HCP as measures against our ITP issuance criteria found in 50 CFR parts 13 and 17.

If you wish to comment, you may submit comments by any one of several methods. Please reference permit number TE189611, Seabreeze, in such comments. You may mail comments to the Service's Regional Office (see ADDRESSES). You may also comment via the internet to david_dell@fws.gov. Please also include your name and return address in your internet message. If you do not receive a confirmation from us that we have received your internet message, contact us directly at either telephone number listed above (see FOR FURTHER INFORMATION CONTACT).

Finally, you may hand-deliver comments to either Service office listed above (see ADDRESSES). Before including your address, phone number, e-mail, or other personal identifying information in your comment, you should be aware that your entire comment-including your personal identifying information-may be made publicly available at any time. While you can ask us in your comment to withhold your personal identifying information from public view, we cannot guarantee that we will be able to do so. If you wish us to withhold your name and address, you must state this prominently at the beginning of your comments. We will not, however, consider anonymous comments. We will make all submissions from organizations or businesses, and from individuals identifying themselves as representatives or officials of organizations or businesses, available for public inspection in their entirety.

The area encompassed under the ITP totals 1.35 acres along the beachfront of the Gulf of Mexico. The Project is located on the western portion of Perdido Key, a 16.9 mile barrier island. Perdido Key constitutes the entire historic range of the Perdido Key beach mouse. The Perdido Key beach mouse was listed as an endangered species under the Act in 1985 (June 6, 1985, 50 FR 23872). The mouse is also listed as an endangered species by the State of Florida. Critical habitat was designated for the Perdido Key beach mouse at the time of listing (50 FR 23872) and revised on October 12, 2006 (71 FR 60238).

We will evaluate the HCP and comments submitted thereon to determine whether the application meets the requirements of section 10(a) of the Act. If it is determined that those requirements are met, the ITP will be issued for the incidental take of the Perdido Key beach mouse. We will also evaluate whether issuance of the section 10(a)(1)(B) ITP complies with section 7 of the Act by conducting an intra-Service section 7 consultation. The results of this consultation, in combination with the above findings, will be used in the final analysis to determine whether or not to issue the ITP.

Dated: September 26, 2008.
Sam D. Hamilton,
Regional Director, Southeast Region.

[FR Doc. E8-24820 Filed 10-16-08; 8:45 am]

BILLING CODE 4310-55-P